ENVIRONMENTAL PROTECTION AGENCY

40 CFR Parts 9, 141, and 142

[EPA-HQ-OW-2002-0039; FRL-8013-1]

RIN 2040-AD37

National Primary Drinking Water Regulations: Long Term 2 Enhanced Surface Water Treatment Rule

Correction

In rule document 06-4 beginning on page 654 in the issue of Thursday, January 5, 2006, make the following correction:

§141.719 [Corrected]

On page 781, in §141.719(b)(v), in the second column, the equation “LRV = LOG10(Cf) × LOG10(Cp)” should read “LRV = LOG10(Cf) − LOG10(Cp)”.

[FR Doc. C6-4 Filed 2-3-06; 8:45 am]

BILLING CODE 1505-01-D